DEPARTMENT OF HEALTH AND HUMAN SERVICES

Centers for Disease Control and Prevention

[60Day-07-07BJ]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Economic Analysis of the National Program of Cancer Registries—NEW—National Center for Chronic Disease Prevention and Health Promotion (NCCDPHP), Centers for Disease Control and Prevention (CDC).

Background and Brief Description

The National Program of Cancer Registries (NPCR) is a nationwide, comprehensive federally sponsored public health program. Established by Congress through the Cancer Registries Amendment Act in 1992, and administered by the Centers for Disease Control and Prevention (CDC), the NPCR collects data on the occurrence of cancer; the type, extent, and location of the cancer; and the type of initial treatment. Since the establishment of NPCR there has been no published systematic analysis of the true economic costs incurred by the program. As the program matures and gains national attention, and in light of the recent increases in total program funding as well as wide variations in the cost per case collected, there is now a greater need for an economic evaluation of the program.

The purpose of this task is to assess the costs, effectiveness, and cost-effectiveness of NPCR in collecting high quality data on cancer incidence, and to develop tools for making resource allocation decisions that will meet program priorities. Performing an assessment of the resources expended on NPCR in relation to the value created will provide critical information for improving program efficiency within the various components of the NPCR and potentially identifying economies of scale.

This task will involve collection and analysis of cost and effectiveness data from all 45 state registries, funded by NPCR, for three years. A pilot questionnaire was developed and piloted tested with 7 registries and information learn during the pilot testing was incorporated to develop a comprehensive cost collection tool. RTI International, the contractor hired by CDC will build a web based data collection tool to collect annual cost data from the 45 state registries. All data will be submitted electronically by grantees to reduce the respondent burden and errors. The contractor will also develop a user's manual to assist the grantees with completing their data submission.

Since certain program level data are already collected as part of NPCR Annual Program Evaluation Instrument (OMB i#0920-0706), the additional burden on grantees will be modest. Once the infrastructure is established to capture the cost data from the NPCR programs, the response burden is expected to be reduced even further. There are no costs to respondents except for their time to complete the questionnaire. All respondents will be using the same cost assessment tool. The only cost to the respondent is their time.

Estimated Annualized Burden Hours
Respondents | Number of respondents | Number of responses per respondent | Average burden per response (in hours) | Total burden (in hours)
State Health Officials—NPCR funded registries | 45 | 3 | 22 | 2,970
Total |  |  |  | 2,970

Dated: July 18, 2007.
Maryam I. Daneshvar,
Acting Reports Clearance Officer, Centers for Disease Control and Prevention.

[FR Doc. E7-14282 Filed 7-23-07; 8:45 am]

BILLING CODE 4163-18-P